DEPARTMENT OF AGRICULTURE

Agricultural Marketing Service

[Docket No. CN-00-005]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for the National Research, Promotion, and Consumer Information Programs.

DATES: Comments on this notice must be received on or before July 21, 2000 to be assured of consideration.

Additional Information or Comments: Contact A. Lee Cliburn, Program Appraisal Staff, Cotton Programs, Agricultural Marketing Service, U.S. Department of Agriculture, P.O. Box 96456, Rm. 2633-South Building, Washington, DC 20090, Telephone (202-720-2145) and Fax (202-690-1718).

SUPPLEMENTARY INFORMATION: Title: National Research, Promotion, and Consumer Information Programs.

OMB Number: 0581-0093.

Expiration Date of Approval: Current expiration date is 11/30/00.

Type of Request: Extension and revision of a currently approved information collection.

Abstract: National research and promotion programs are designed to strengthen the position of a commodity in the marketplace, maintain and expand existing domestic and foreign markets, and develop new uses and markets for specified agricultural commodities. The U.S. Department of Agriculture the responsibility for implementing and overseeing programs for a variety of commodities including cotton, dairy, eggs, beef, pork, soybeans, honey, potatoes, watermelons, mushrooms, kiwifruit, popcorn, and olive oil. The enabling legislation includes the Cotton Research and Promotion Act of 1966 [7 U.S.C. 2101-2118]; the Dairy Production Stabilization Act of 1983 [7 U.S.C. 4501-4513]; the Fluid Milk Promotion Act of 1990 [7 U.S.C. 6401-6417]; the Egg Research and Consumer Information Act [7 U.S.C. 4301-4319]; the Beef Promotion and Research Act of 1985 [7 U.S.C. 2901-2911]; the Pork Promotion, Research and Consumer Information Act of 1985 [7 U.S.C. 4801-4819]; the Soybean Promotion, Research, and Consumer Information Act [7 U.S.C. 6301-6311]; Honey Research, Promotion, and Consumer Information Act, as amended [7 U.S.C. 4601-4612]; the Potato Research and Promotion Act [7 U.S.C. 2611-2627]; the Watermelon Research and Promotion Act [7 U.S.C. 4901-4916]; the Mushroom Promotion, Research, and Consumer Information Act of 1990 [7 U.S.C. 6101-6112]; the National Kiwifruit Research, Promotion, and Consumer Information Act [7 U.S.C. 7461-7473]; the Popcorn Promotion, Research and Consumer Information Act [7 U.S.C. 7481-7491]; and the Commodity Promotion, Research, and Information Act of 1996 [7 U.S.C. 7401-7425].

These programs carry out projects relating to research, consumer information, advertising, sales promotion, producer information, market development, and product research to assist, improve, or promote the marketing, distribution, and utilization of their respective commodities. Approval of the programs is required through referendum of those who would be covered. Industry boards administer the programs. These boards usually composed of producer, handler, processor, and in some cases, importer and public members, are appointed by the Secretary of Agriculture to administer the programs. The funding for such programs is from assessments on designated industry segments. The appointed boards are responsible for collecting assessments from the affected persons covered under these programs.

The Secretary also approves the boards' budgets, plans, and projects. These responsibilities have been delegated to the Agricultural Marketing Service (AMS). The applicable commodity program areas within AMS have direct oversight of the respective programs.

The information collection requirements in this request are essential to carry out the intents of the various Acts authorizing such programs, thereby providing a means of administering the programs. The objective in carrying out this responsibility includes assuring the following: (1) Funds are collected and properly accounted for; (2) expenditures of all funds are for the purposes authorized by the enabling legislation; and (3) the board's administration of the programs conforms to USDA policy. The applicable commodity programs within AMS have direct oversight of these freestanding programs. The forms covered under this collection require the minimum information necessary to effectively carry out the requirements of the respective orders, and their use is necessary to fulfill the intents of the Acts as expressed in the orders. The information collected is used only by authorized employees of the various boards and authorized employees of USDA.

The boards administering the various programs utilize a variety of forms to carry out the responsibilities. Such forms may include reports concerning status information such as handler and importer reports; transaction reports; exemption from assessment forms and reimbursement forms; forms and information concerning referenda including ballots; forms and informaiton concerning board nominations and selection and acceptance statements; certification of industry organizations; and recordkeeping requirements. The forms and information covered under this information collection require the minimum information necessary to effectively carry out the requirements of the programs and their use is necessary to fulfill the intent of the applicable authorities.

Estimate of Burden: Public reporting burden for this collection of information is estimated to average .0792943 hours per response.

Respondents: Producers, processors, handlers, and/or importers of a variety of agricultural commodities.

Estimated Number of Respondents: Total respondents are estimated to be 354,690.

Estimated Number of Responses per Respondent: Number of responses per respondent is estimated to average 12.389776.

Estimated Total Annual Burden on Respondents: Estimated total annual burden is 348,461 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to A. Lee Cliburn, Program Appraisal Staff, Cotton Programs, Agricultural Marketing Service, U.S. Department of Agriculture, P.O. Box 96456, Rm. 2633-South Building, Washington, DC 20090. All comments received will be available for public inspection during regular business hours at the same address.

All responses to this notice will be summarized and included in the request for OMB approval. All comments will become a matter of public record.

Dated: May 16, 2000.
Lee Cliburn,
Acting Deputy Administrator, Cotton Programs.

[FR Doc. 00-12803 Filed 5-19-00; 8:45 am]

BILLING CODE 3410-02-P